ENVIRONMENTAL PROTECTION AGENCY

[FRL-9834-9]

Public Water Supply Supervision Program; Program Revision for the State of Oregon

AGENCY: Environmental Protection Agency (EPA).

ACTION: Notice of tentative approval.

SUMMARY: Notice is hereby given that the State of Oregon has revised its approved State Public Water Supply Supervision Primacy Program. Oregon has adopted regulations analogous to EPA's Stage 2 Disinfectants and Disinfection Byproducts Rule; Long Term 2 Enhanced Surface Water Treatment Rule; Ground Water Rule; and Lead and Copper Short-Term Regulatory Revisions and Clarifications Rule and has adopted revisions to their Variance regulation. EPA has determined that these revisions are no less stringent than the corresponding federal regulations. Therefore, EPA intends to approve these State program revisions. By approving these rules, EPA does not intend to affect the rights of federally recognized Indian tribes within “Indian country” as defined by 18 U.S.C. 1151, nor does it intend to limit existing rights of the State of Oregon.

DATES: All interested parties may request a public hearing. A request for a public hearing must be submitted by August 19, 2013 to the Regional Administrator at the EPA address shown below. Frivolous or insubstantial requests for a hearing may be denied by the Regional Administrator. However, if a substantial request for a public hearing is made by August 19, 2013, a public hearing will be held. If no timely and appropriate request for a hearing is received and the Regional Administrator does not elect to hold a hearing on his own motion, this determination shall become final and effective on August 19, 2013. Any request for a public hearing shall include the following information: (1) The name, address, and telephone number of the individual, organization, or other entity requesting a hearing; (2) a brief statement of the requesting person's interest in the Regional Administrator's determination and a brief statement of the information that the requesting person intends to submit at such hearing; (3) the signature of the individual making the request, or, if the request is made on behalf of an organization or other entity, the signature of a responsible official of the organization or other entity.

ADDRESSES: All documents relating to this determination are available for inspection between the hours of 9:00 a.m. and 4:00 p.m., Monday through Friday, at the Oregon Health Authority, Drinking Water Program, 800 N.E. Oregon Street, Suite 640, Portland, Oregon 97232 and between the hours of 9:00 a.m.-12:00 p.m. and 1:00-4:00 p.m. at the EPA Region 10 Library, 1200 Sixth Avenue, Seattle, Washington 98101.

FOR FURTHER INFORMATION CONTACT: Wendy Marshall, EPA Region 10, Drinking Water Unit, by mail at the Seattle address given above, by telephone at (206) 553-1890, or by email at marshall.wendy@epa.gov.

Authority: Section 1413 of the Safe Drinking Water Act, as amended (1996), and 40 CFR Part 142 of the National Primary Drinking Water Regulations.

Dated: June 27, 2013.
Dennis J. McLerran,
Regional Administrator.

[FR Doc. 2013-17266 Filed 7-17-13; 8:45 am]

BILLING CODE 6560-50-P